DEPARTMENT OF ENERGY

Federal Energy Regulatory Commission

Notice of Staff Attendance at the Southwest Power Pool, Inc. Regional State Committee, Members Committee, Board of Directors and Holistic Integrated Tariff Team Meetings

The Federal Energy Regulatory Commission (Commission) hereby gives notice that members of its staff may attend the meetings of the Southwest Power Pool, Inc. Regional State Committee (RSC), Members Committee, Board of Directors and Holistic Integrated Tariff Team (HITT) as noted below. Their attendance is part of the Commission's ongoing outreach efforts.

The meetings will be held at the Embassy Suites Downtown/Old Market, 555 South 10th Street, Omaha, NE 68102. The phone number is (402) 346-9000. All meetings are Central Time.

SPP RSC

July 30, 2018 (1:00 p.m.-5:00 p.m.)

SPP Members/Board of Directors

July 31, 2018 (8:00 a.m.-3:00 p.m.)

SPP HITT

July 31, 2018 (3:00 p.m.-6:00 p.m.)

August 1, 2018 (9:00 a.m.-3:00 p.m.)

The discussions may address matters at issue in the following proceedings:

Docket No. ER12-1179, Southwest Power Pool, Inc.

Docket No. ER14-2850, Southwest Power Pool, Inc.

Docket No. ER14-2851, Southwest Power Pool, Inc.

Docket No. ER15-2028, Southwest Power Pool, Inc.

Docket No. ER15-2115, Southwest Power Pool, Inc.

Docket No. ER15-2237, Kanstar Transmission, LLC

Docket No. ER15-2594, South Central MCN LLC

Docket No. EL16-91, Southwest Power Pool, Inc.

Docket No. EL16-108, Tilton Energy v. Midcontinent Independent System Operator, Inc.

Docket No. ER16-204, Southwest Power Pool, Inc.

Docket No. ER16-2522, Southwest Power Pool, Inc.

Docket No. ER16-2523, Southwest Power Pool, Inc.

Docket No. EL17-21, Kansas Electric Co. v. Southwest Power Pool, Inc.

Docket No. EL17-89, American Electric Power Service Corporation v. Midcontinent Independent System Operator, Inc., et al.

Docket No. ER17-426, Southwest Power Pool, Inc.

Docket No. ER17-428, Southwest Power Pool, Inc.

Docket No. ER17-469, Southwest Power Pool, Inc.

Docket No. ER17-953, South Central MCN LLC

Docket No. ER17-1741, Southwest Power Pool, Inc.

Docket No. ER17-1610, Southwest Power Pool, Inc.

Docket No. EL18-9, Xcel Energy Services, Inc. v. Southwest Power Pool, Inc.

Docket No. EL18-12, ATX Southwest, LLC

Docket No. EL18-13, Transource Kansas, LLC

Docket No. EL18-14, Midwest Power Transmission Arkansas, LLC

Docket No. EL18-15, Kanstar Transmission, LLC

Docket No. EL18-16, South Central MCN, LLC

Docket No. EL18-19, Southwest Power Pool, Inc.

Docket No. EL18-20, Indicated SPP Transmission Owners v. Southwest Power Pool, Inc.

Docket No. EL18-26, EDF Renewable Energy, Inc. v. Midcontinent Independent System Operator, Inc., Southwest Power Pool, Inc., and PJM Interconnection, L.L.C.

Docket No. EL18-35, Southwest Power Pool, Inc.

Docket No. EL18-58, Oklahoma Municipal Power Authority v. Oklahoma Gas and Electric Co.

Docket No. ER18-99, Southwest Power Pool, Inc.

Docket No. ER18-171, Southwest Power Pool, Inc.

Docket No. ER18-194, Southwest Power Pool, Inc.

Docket No. ER18-195, Southwest Power Pool, Inc.

Docket No. ER18-564, South Central MCN LLC

Docket No. ER18-572, South Central MCN LLC

Docket No. ER18-939, Southwest Power Pool, Inc.

Docket No. ER18-1078, Southwest Power Pool, Inc.

Docket No. ER18-1267, South Central MCN LLC

Docket No. ER18-1268, Southwest Power Pool, Inc.

Docket No. ER18-1323, Southwest Power Pool, Inc.

Docket No. ER18-1403, Southwest Power Pool, Inc.

Docket No. ER18-1426, Southwest Power Pool, Inc.

Docket No. ER18-1542, Southwest Power Pool, Inc.

Docket No. ER18-1562, Southwest Power Pool, Inc.

Docket No. ER18-1568, Southwest Power Pool, Inc.

Docket No. ER18-1572, Southwest Power Pool, Inc.

Docket No. ER18-1590, Southwest Power Pool, Inc.

Docket No. ER18-1632, Southwest Power Pool, Inc.

Docket No. ER18-1643, Southwest Power Pool, Inc.

Docket No. ER18-1662, Southwest Power Pool, Inc.

Docket No. ER18-1680, Southwest Power Pool, Inc.

Docket No. ER18-1701, Southwest Power Pool, Inc.

Docket No. ER18-1702, Southwest Power Pool, Inc.

Docket No. ER18-1742, Southwest Power Pool, Inc.

Docket No. ER18-1747, Southwest Power Pool, Inc.

Docket No. ER18-1753, Southwest Power Pool, Inc.

Docket No. ER18-1756, Southwest Power Pool, Inc.

Docket No. ER18-1757, Southwest Power Pool, Inc.

Docket No. ER18-1768, Southwest Power Pool, Inc.

Docket No. ER18-1776, Southwest Power Pool, Inc.

Docket No. ER18-1780, Southwest Power Pool, Inc.

Docket No. ER18-1781, Southwest Power Pool, Inc.

Docket No. ER18-1789, Southwest Power Pool, Inc.

Docket No. ER18-1811, Southwest Power Pool, Inc.

Docket No. ER18-1816, Midwest Power Transmission Arkansas, LLC

Docket No. ER18-1838, Southwest Power Pool, Inc.

Docket No. ER18-1854, Southwest Power Pool, Inc.

Docket No. ER18-1864, Southwest Power Pool, Inc.

Docket No. ER18-1867, Southwest Power Pool, Inc.

Docket No. ER18-1872, Southwest Power Pool, Inc.

Docket No. ER18-1881, Southwest Power Pool, Inc. Docket No. ER18-1898, Southwest Power Pool, Inc.

Docket No. ER18-1904, Southwest Power Pool, Inc.

Docket No. ER18-1919, Southwest Power Pool, Inc.

Docket No. ER18-1921, Southwest Power Pool, Inc.

Docket No. ER18-1923, Southwest Power Pool, Inc.

Docket No. ER18-1963, Midwest Energy, Inc.

Docket No. TX18-1, AEP Energy Partners, Inc.

This meeting is open to the public.

For more information, contact Patrick Clarey, Office of Energy Market Regulation, Federal Energy Regulatory Commission at (317) 249-5937 or patrick.clarey@ferc.gov.

Dated: July 13, 2018.
Kimberly D. Bose,
Secretary.

[FR Doc. 2018-15479 Filed 7-19-18; 8:45 am]

BILLING CODE 6717-01-P